DEPARTMENT OF AGRICULTURE

Forest Service

Notice of New Recreation Fee; Federal Lands Recreation Enhancement Act, (Title VIII, Pub. L. 108-447)

AGENCY: George Washington & Jefferson National Forests, USDA Forest Service

ACTION: Notice of New Recreation Fee.

SUMMARY: George Washington & Jefferson National Forests will begin charging a $5 fee per ATV/OHV for use of Taskers Gap and Peters Mill Run trail system. This trail system will facilitate ATV/OHV motorized use of George Washington & Jefferson National Forests on the Lee Ranger District. Fee revenue will support operations and maintenance of the trail system and future site improvements.

DATES: Taskers Gap and Peters Mill Run trail system is scheduled to initiate fees in June, 2007.

ADDRESSES: Forest Supervisor, George Washington & Jefferson National Forests, 5162 Valleypointe Parkway, Roanoke, Virginia, 24019.

FOR FURTHER INFORMATION CONTACT: Ted Coffman, Recreation Fee Coordinator, 540-265-5217.

SUPPLEMENTARY INFORMATION: The Federal Recreation Lands Enhancement Act (Title VII, Pub. L. 108-447) directed the Secretary of Agriculture to publish advance notice in the Federal Register whenever new recreation fee areas are established. This new fee will be reviewed by a Recreation Resource Advisory Committee prior to a final decision and implementation. George Washington & Jefferson National Forests presently manage one ATV special recreation permit on the forest. Special Recreation Permit fees for use of the trail system are $5.00 per vehicle. Taskers Gap and Peters Mill Run trail system offer approximately 40 miles of trail, trailheads with parking and vault toilets, and information through maps and information boards.

Dated: November 20, 2006.
Henry B. Hickerson,
George Washington & Jefferson National Forests Deputy Forest Supervisor.

[FR Doc. E6-19995 Filed 11-24-06; 8:45 am]

BILLING CODE 3410-11-P